FEDERAL COMMUNICATIONS COMMISSION

Notice of Public Information Collection(s) Being Reviewed by the Federal Communications Commission, Comments Requested

March 28, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 4, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0787.

Title: Implementation of the Subscriber Carrier Selection Changes Provisions of the Telecommunications Act of 1996; Policies and Rules Concerning unauthorized Changes of Consumers Long Distance Carriers.

Form No.: FCC Form 478.

Type of Review: Extension.

Respondents: Business or Other for Profit.

Number of Respondents: 28,414.

Estimated Time Per Response: 4.7 hours (avg.); 2-10 hours per response.

Total Annual Burden: 135,126 hours.

Estimated Annual Reporting and Recordkeeping Cost Burden: $0.

Frequency of Response: On occasion; Semi-Annually; Recordkeeping; Third party disclosures.

Needs and Uses: The goal of 47 U.S.C. 258 is to eliminate the practice of “slamming” which is the unauthorized change of a subscriber's preferred carrier. The modifications and additions adopted in the Third Report and Order, as modified in a subsequent Order, will improve the carrier change process for consumers and carriers alike, while making it more difficult for unscrupulous carriers to perpetrate slams. The Commission, among other things, amended the current carrier change authorization and verification rules to expressly permit the use of Internet letters of agency in a manner consistent with the new E-Sign Act; and, requires each telephone exchange and/or telephone toll provider to submit a semi-annual report on the number of slamming complaints it receives.

OMB Approval No.: 3060-0211.

Title: Section 73.1943 Political File.

Form No.: n/a.

Type of Review: Extension of currently approved collection.

Respondents: Businesses or other for-profit.

Number of Respondents: 16,597.

Estimated Hours Per Response: 0.25 hours per request (each station is estimated to have 25 political broadcasts per year).

Frequency of Response: On occasion.

Cost to Respondents: $0.

Estimated Total Annual Burden: 104,744.

Needs and Uses: Section 73.1943 requires licensees of broadcast stations to keep and permit public inspection of a complete record (political file) of all requests for broadcast time made by or on behalf of candidates for public office, together with an appropriate notation showing the disposition made by the licensee of such request. The data is used by the public to assess money expended and time allotted to a political candidate and to ensure that equal access was afforded to other qualified candidates.

OMB Approval No.: 3060-0502.

Title: Section 73.1942 Candidate rates.

Form No.: n/a.

Type of Review: Extension of currently approved collection.

Respondents: Businesses or other for-profit.

Number of Respondents: 11,878.

Estimated Hours Per Response: 0.5 hours per disclosure of lowest unit charge; 20 hours for calculation of lowest unit charge; 2 hours for review of records.

Frequency of Response: On occasion.

Cost to Respondents: $0.

Estimated Total Annual Burden: 671,107 hours.

Needs and Uses: Section 315(b) of the Communications Act directs broadcast stations to charge political candidates the “lowest unit charge of the station” for the same class and amount of time for the same period, during the 45 days preceding a primary or runoff election and the 60 days preceding a general or special election.

Section 73.1942 requires broadcast licensees to disclose any station practices offered to commercial advertisers that enhance the value of advertising spots and different classes of time (immediately preemptible, preemptible with notice, fixed, fire sale, and make good). Section 73.1942 also requires licensees to calculate the lowest unit charge. Stations are also required to review their advertising records throughout the election period to determine whether compliance with this section requires that candidates receive rebates or credits.

The disclosures would assure candidates that they are receiving the same lowest unit charge as other advertisers.

Federal Communications Commission
Magalie Roman Salas,
Secretary.

[FR Doc. 01-8314 Filed 4-4-01; 8:45 am]

BILLING CODE 6712-01-U